NATIONAL SCIENCE FOUNDATION

Special Emphasis Panel in Computer-Communications Research Notice of Meeting

In accordance with the Federal Advisory Committee Act (Pub. L. 92-463, as amended), the National Science Foundation announces the following meeting:

Name: Special Emphasis Panel in Computer-Communications Research (1192).

Date/Time: January 24, 25, 26, and 28; 8:00 a.m.-5:00 p.m.

Place: National Science Foundation, 4201 Wilson Boulevard, Rooms 365, 380, 360, 370, and 360 Arlington, VA., 22230.

Type of Meeting: Closed.

Contract Person: Kamal Abdali, Program Director, Numeric, Symbolic & Geometric Computation (NSG), CISE/CCR, Room 1145, National Science Foundation, 4201 Wilson Boulevard, Arlington, Virginia 22230 (703) 306-1912.

Minutes: May be obtained from the contract person listed above.

Purpose of Meeting: To provide advice and recommendations concerning proposals submitted to NSF for financial support.

Agenda: To review and evaluate NSG proposals as a part of the selection process for awards.

Reason for Closing: The proposals being reviewed include information of a proprietary or confidential nature, including technical information, financial data, such as salaries, and personal information concerning individuals associated with the proposals. These matters are exempt under 5 U.S.C. 552b(c) (4) and (6) of the Government in the Sunshine Act.

Dated: January 13, 2000.
Karen J. York,
Committee Management Office.

[FR Doc. 00-1233 Filed 1-18-00; 8:45 am]

BILLING CODE 7555-01-M